DEPARTMENT OF TRANSPORTATION

Federal Aviation Administration

14 CFR Part 71

[Docket No. FAA-2021-0979; Airspace Docket No. 21-AGL-31]

RIN 2120-AA66

Amendment of Class D and Class E Airspace; Multiple Illinois Towns

AGENCY: Federal Aviation Administration (FAA), DOT.

ACTION: Final rule.

SUMMARY: This action amends the Class D airspace at Chicago/Rockford, IL, and the Class E airspace at Poplar Grove, IL; Freeport, IL; Rochelle, IL; and Chicago/Rockford, IL. This action is the result of airspace reviews caused by the decommissioning of the Rockford very high frequency (VHF) omnidirectional range (VOR) as part of the VOR Minimal Operational Network (MON) Program. The names and geographic coordinates of various airports are also being updated to coincide with the FAA's aeronautical database.

DATES: Effective 0901 UTC, May 19, 2022. The Director of the Federal Register approves this incorporation by reference action under 1 CFR part 51, subject to the annual revision of FAA Order JO 7400.11 and publication of conforming amendments.

ADDRESSES: FAA Order JO 7400.11F, Airspace Designations and Reporting Points, and subsequent amendments can be viewed online at https://www.faa.gov/air_traffic/publications/. For further information, you can contact the Airspace Policy Group, Federal Aviation Administration, 800 Independence Avenue SW, Washington, DC 20591; telephone: (202) 267-8783. FAA Order JO 7400.11F is also available for inspection at the National Archives and Records Administration (NARA). For information on the availability of FAA Order JO 7400.11F at NARA, email: fr.inspection@nara.gov or go to https://www.archives.gov/federal-register/cfr/ibr-locations.html.

FOR FURTHER INFORMATION CONTACT: Jeffrey Claypool, Federal Aviation Administration, Operations Support Group, Central Service Center, 10101 Hillwood Parkway, Fort Worth, TX 76177; telephone (817) 222-5711.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of airspace necessary to ensure the safety of aircraft and the efficient use of airspace. This regulation is within the scope of that authority as it amends the Class D airspace at Chicago/Rockford International Airport, Chicago/Rockford, IL, and the Class E airspace extending upward from 700 feet above the surface at Poplar Grove Airport, Poplar Grove, IL; Albertus Airport, Freeport, IL; Rochelle Municipal Airport/Koritz Field, Rochelle, IL; and Chicago/Rockford International Airport to support instrument flight rule operations at these airports.

History

The FAA published a notice of proposed rulemaking (NPRM) in the Federal Register (86 FR 62753; November 12, 2021) for Docket No. FAA-2021-0979 to amend the Class D airspace at Chicago/Rockford, IL, and the Class E airspace at Poplar Grove, IL; Freeport, IL; Rochelle, IL; and Chicago/Rockford, IL. Interested parties were invited to participate in this rulemaking effort by submitting written comments on the proposal to the FAA. No comments were received.

Class D and E airspace designations are published in paragraphs 5000 and 6005, respectively, of FAA Order JO 7400.11F, dated August 10, 2021, and effective September 15, 2021, which is incorporated by reference in 14 CFR 71.1. The Class D and E airspace designations listed in this document will be published subsequently in FAA Order JO 7400.11.

Availability and Summary of Documents for Incorporation by Reference

This document amends FAA Order JO 7400.11F, Airspace Designations and Reporting Points, dated August 10, 2021, and effective September 15, 2021. FAA Order JO 7400.11F is publicly available as listed in the ADDRESSES section of this document. FAA Order JO 7400.11F lists Class A, B, C, D, and E airspace areas, air traffic service routes, and reporting points.

Differences From the NPRM

Subsequent to publication of the NPRM it was discovered that the proposed southwest extension referencing the Chicago/Rockford INTL: RWY 07-LOC to the Class D airspace at Chicago/Rockford International Airport is already contained within the Class D radius and is not required. That proposed extension has been removed in this action.

The Rule

This amendment to 14 CFR part 71:

Amends the Class D airspace at Chicago/Rockford International Airport, Chicago/Rockford, IL, by adding an extension 1 mile each side of the 185° bearing from the airport extending from the 4.6-mile radius of the airport to 4.7 miles south of the airport; and updates the header of the airspace legal description from “Rockford, IL” to “Chicago/Rockford, IL” to coincide with the FAA's aeronautical database;

Amends the Class E airspace extending upward from 700 feet above the surface at Poplar Grove Airport, Poplar Grove, IL, by updating the name of the airport (previously Belvidere LTD Airport) to coincide with the FAA's aeronautical database; updates the header of the airspace legal description from “Belvidere, IL” to “Poplar Grove, IL” to coincide with the FAA's aeronautical database; and removes the exclusionary language as it is not required;

Amends the Class E airspace extending upward from 700 feet above the surface to within a 6.6-mile (increased from a 6.5-mile) radius of Albertus Airport, Freeport, IL; removes the city associated with the airport from the airspace legal description to comply with changes to FAA Order JO 7400.2N, Procedures for Handling Airspace Matters; and updates the geographic coordinates of the airport to coincide with the FAA's aeronautical database;

Amends the Class E airspace extending upward from 700 feet above the surface at Rochelle Municipal Airport/Koritz Field, Rochelle, IL, by updating the name (previously Airport-Koritz Field) and geographic coordinates of the airport to coincided with the FAA's aeronautical database; and removes the exclusionary language as it is not required;

And amends the Class E airspace extending upward from 700 feet above the surface at Chicago/Rockford International Airport by adding an extension within 3 miles each side of the 185° bearing of the Chicago/Rockford INTL: RWY 01-LOC extending from the 7.1-mile radius of the airport to 12.3 miles south of the Chicago/Rockford INTL: RWY 01-LOC; and updates the header of the airspace legal description from “Rockford, IL” to “Chicago/Rockford, IL” to coincide with the FAA's aeronautical database.

This action is due to airspace reviews caused by the decommissioning of the Rockford VOR, which provided navigation information for the instrument procedures these airports, as part of the VOR MON Program.

FAA Order JO 7400.11, Airspace Designations and Reporting Points, is published yearly and effective on September 15.

Regulatory Notices and Analyses

The FAA has determined that this regulation only involves an established body of technical regulations for which frequent and routine amendments are necessary to keep them operationally current, is non-controversial and unlikely to result in adverse or negative comments. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action qualifies for categorical exclusion under the National Environmental Policy Act in accordance with FAA Order 1050.1F, “Environmental Impacts: Policies and Procedures,” paragraph 5-6.5.a. This airspace action is not expected to cause any potentially significant environmental impacts, and no extraordinary circumstances exist that warrant preparation of an environmental assessment.

Lists of Subjects in 14 CFR Part 71

Airspace, Incorporation by reference, Navigation (air).

Adoption of the Amendment

In consideration of the foregoing, the Federal Aviation Administration amends 14 CFR part 71 as follows:

PART 71—DESIGNATION OF CLASS A, B, C, D, AND E AIRSPACE AREAS; AIR TRAFFIC SERVICE ROUTES; AND REPORTING POINTS

1. The authority citation for part 71 continues to read as follows:

Authority: 49 U.S.C. 106(f), 106(g); 40103, 40113, 40120; E.O. 10854, 24 FR 9565, 3 CFR, 1959-1963 Comp., p. 389.

§ 71.1 [Amended]

2. The incorporation by reference in 14 CFR 71.1 of FAA Order JO 7400.11F, Airspace Designations and Reporting Points, dated August 10, 2021, and effective September 15, 2021, is amended as follows:

Paragraph 5000 Class D Airspace.

* * * * *

AGL IL D Chicago/Rockford, IL [Amended]

Chicago/Rockford International Airport, IL

(Lat. 42°11′43″ N, long. 89°05′50″ W)

That airspace extending upward from the surface of the earth to and including 3,200 feet MSL within a 4.6-mile radius of the Chicago/Rockford International Airport, and within 1 mile each side of the 185° bearing from the airport extending from the 4.6-mile radius of the airport to 4.7 miles south of the airport.

Paragraph 6005 Class E Airspace Areas Extending Upward From 700 Feet or More Above the Surface of the Earth.

* * * * *

AGL IL E5 Poplar Grove, IL [Amended]

Poplar Grove Airport, IL

(Lat. 42°19′22″ N, long. 88°50′11″ W)

That airspace extending upward from 700 feet above the surface within a 6.4-mile radius of the Poplar Grove Airport.

* * * * *

AGL IL E5 Freeport, IL [Amended]

Albertus Airport, IL

(Lat. 42°14′46″ N, long. 89°34′55″ W)

That airspace extending upward from 700 feet above the surface within a 6.6-mile radius of Albertus Airport.

* * * * *

AGL IL E5 Rochelle, IL [Amended]

Rochelle Municipal Airport/Koritz Field, IL

(Lat. 41°53′34″ N, long. 89°04′47″ W)

That airspace extending upward from 700 feet above the surface within a 6.5-mile radius of the Rochelle Municipal Airport/Koritz Field.

AGL IL E5 Chicago/Rockford, IL [Amended]

Chicago/Rockford International Airport, IL

(Lat. 42°11′43″ N, long. 89°05′50″ W)

Chicago/Rockford INTL: RWY 01-LOC

(Lat. 42°12′36″ N, long. 89°05′17″ W)

That airspace extending upward from 700 feet above the surface within a 7.1-mile radius of the Chicago/Rockford International Airport, and within 3 miles each side of the 185° bearing from the Chicago/Rockford INTL: RWY 01-LOC extending from the 7.1-mile radius of the airport to 12.3 miles south of the Chicago/Rockford INTL: RWY 01-LOC.

Issued in Fort Worth, Texas, on January 31, 2022.
Martin A. Skinner,
Acting Manager, Operations Support Group, ATO Central Service Center.

[FR Doc. 2022-02270 Filed 2-3-22; 8:45 am]

BILLING CODE 4910-13-P